TENNESSEE VALLEY AUTHORITY

Meeting of the Regional Energy Resource Council

AGENCY: Tennessee Valley Authority (TVA).

ACTION: Notice of meeting.

SUMMARY: The TVA Regional Energy Resource Council (RERC) will hold a meeting on January 31, 2025, to receive an update on the draft 2025 Integrated Resource Plan (IRP). The IRP provides strategic direction on how TVA will continue to provide low-cost, reliable, resilient, and increasingly cleaner electricity to the 10 million residents of the Valley region.

DATES: The meeting will be held virtually, on Friday, January 31, 2025, from 10 a.m. to 12:30 p.m. ET. To view the webinar, the public must register for the webinar. The registration link and instructions to view the meeting will be posted on TVA's RERC website at www.tva.com/rerc. A one-hour public listening session for the public to present comments virtually will be held January 31, 2025, at 11:30 a.m. ET. Persons who wish to speak during the public listening session must pre-register by 5 p.m. ET Wednesday, January 29, 2025, by emailing bhaliti@tva.gov. Persons who are pre-registered to provide comments virtually will be called on during the public listening session to share their views for up to five minutes, depending on number of registrants. Written comments are also invited and may be emailed to bhaliti@tva.gov. Anyone needing special accommodations should email bhaliti@tva.gov at least one week in advance.

ADDRESSES: The meeting will be fully virtual, and the meeting link will be provided at www.tva.com/rerc prior to the meeting.

FOR FURTHER INFORMATION CONTACT: Bekim Haliti, bhaliti@tva.gov or 931-349-1894.

SUPPLEMENTARY INFORMATION: The RERC was established to advise TVA on its energy resource activities and the priorities among competing objectives and values. Notice of this meeting is given under the Federal Advisory Committee Act (FACA), 5 U.S.C. 10.

The meeting agenda includes the following:

January 31

1. Welcome and Introductions

2. IRP Process Update

3. Recap of Draft IRP Public Comment Period

4. IRP Sensitivities

5. Forming the IRP Recommendations

6. Public Listening Session

Dated: January 10, 2025.
Melanie Farrell,
Vice President, Valley Engagement and Strategy, Tennessee Valley Authority.

[FR Doc. 2025-00783 Filed 1-14-25; 8:45 am]

BILLING CODE 8120-08-P